DEPARTMENT OF TRANSPORTATION

Pipeline and Hazardous Materials Safety Administration

[Docket: PHMSA-07-0056]

Request for Public Comments and Office of Management and Budget (OMB) Approval of an Existing Information Collection (2137-0622)

AGENCY: Pipeline and Hazardous Materials Safety Administration (PHMSA), DOT.

ACTION: Notice and request for comments.

SUMMARY: This notice requests public participation in the OMB approval process for the renewal of an existing Public Awareness Program information collection. PHMSA is requesting OMB approval for renewal of this information collection under the Paperwork Reduction Act of 1995 (PRA). With this notice, as required by the PRA, PHMSA invites the public to submit comments over the next 60 days on whether the existing information collection is necessary for the proper performance of the functions of the Department.

DATES: Submit comments on or before March 31, 2008.

ADDRESSES: Comments may be submitted in the following ways:

• E-Gov Web Site: http://www.regulations.gov. This site allows the public to enter comments on any Federal Register notice issued by any agency.

• Fax: 1-202-493-2251.

• Mail: DOT Docket Operations Facility (M-30), U.S. Department of Transportation, West Building, 1200 New Jersey Avenue, SE., Washington, DC 20590.

• Hand Delivery: DOT Docket Operations Facility, U.S. Department of Transportation, West Building, Room W12-140, 1200 New Jersey Avenue, SE., Washington, DC 20590 between 9 a.m. and 5 p.m., Monday through Friday, except Federal holidays.

Instructions: Identify the docket number, PHMSA-2007-0056, at the beginning of your comments. If you mail your comments we request that you send two copies. To receive confirmation that PHMSA received your comments, include a self-addressed stamped postcard.

Note: All comments are electronically posted without changes or edits, including any personal information provided.

Privacy Act Statement

Anyone can search the electronic form of all comments received in response to any of our dockets by the name of the individual submitting the comment (or signing the comment, if submitted on behalf of an association, business, labor union, etc.). DOT's complete Privacy Act Statement was published in the Federal Register on April 11, 2000 (65 FR 19477).

FOR FURTHER INFORMATION CONTACT: LE Herrick, at 202-366-5523, or by e-mail at le.herrick@dot.gov.

SUPPLEMENTARY INFORMATION: The Federal Pipeline Safety Regulations require each operator to develop and implement a written continuing public education program that follows the guidance provided in the American Petroleum Institute's (API) Recommended Practice (RP) 1162. Upon request, operators must submit their completed programs to PHMSA or, in the case of an intrastate pipeline facility operator, the appropriate State agency. The operator's program documentation and evaluation results must also be available for periodic review by appropriate regulatory agencies. (49 CFR 192.616 and 195.440).

Pursuant to section 3506(c)(2)(A) of the PRA, PHMSA invites comments on whether the renewal of this information collection is necessary for the proper performance of the functions of the Department. These include (1) whether the information will have practical utility; (2) the accuracy of the Department's estimate of the burden of the proposed information collections; (3) ways to enhance the quality, utility, and clarity of the information collection; and (4) ways to minimize the burden of the information collection on respondents, including the use of automated collection techniques or other forms of information technology. As used in this notice, the term “information collection” includes all work related to preparing and disseminating information related to this recordkeeping requirement including completing paperwork, gathering information, and conducting telephone calls.

Type of Information Collection Request: Renewal of Existing Collection.

Title of Information Collection: Pipeline Safety: Public Awareness Program.

Respondents: 22,500 (Old).

Estimated Total Annual Burden on Respondents: 517,480 hours. (Old).

Issued in Washington, DC, on January 24, 2008.
Barbara Betsock,
Acting Director, Office of Regulations.

[FR Doc. E8-1761 Filed 1-30-08; 8:45 am]

BILLING CODE 4910-60-P